DEPARTMENT OF COMMERCE

International Trade Administration

[A-570-848]

Freshwater Crawfish Tail Meat From the People's Republic of China: Initiation of Antidumping Duty New Shipper Reviews

AGENCY: Import Administration, International Trade Administration, Department of Commerce.

SUMMARY: The Department of Commerce (the Department) has received timely requests to conduct new shipper reviews of the antidumping duty order on freshwater crawfish tail meat from the People's Republic of China. In accordance with 19 CFR 341.214(d), we are initiating a review for Qingdao Jin Yong Xiang Aquatic Foods Co. Ltd. (Qingdao JYX) and its producer Hefei Zhongbao Aquatic Co., Ltd. (Hefei Zhongbao); Siyang Foreign Trading Corporation (Siyang) and its producer Anhui Golden Bird Agricultural Products Development Co., Ltd. (Anhui). We are also initiating a new shipper review for Hubei Qianjiang Houhu Frozen & Processing Factory (Hubei Houhu) and for Zhoushan Huading Seafood Co., Ltd. (Zhoushan Huading), each of which both produced and exported freshwater crawfish tail meat from the People's Republic of China (“PRC”).

EFFECTIVE DATE: November 7, 2002.

FOR FURTHER INFORMATION CONTACT: Holly Hawkins, Import Administration, International Trade Administration, U.S. Department of Commerce, 14th Street and Constitution Avenue, NW., Washington, DC 20230; telephone (202) 482-0414.

Applicable Statute and Regulations

Unless otherwise indicated, all citations are references to the provisions of the Tariff Act of 1930, as amended (“the Act”). In addition, unless otherwise indicated, all citations are to the Department's regulations, codified at 19 CFR part 351 (April 2002).

SUPPLEMENTARY INFORMATION:

Background

The Department received timely requests from Hubei Houhu, Qingdao JYX, Siyang, and Zhoushan Huading, in accordance with 19 CFR 351.214(c), for new shipper reviews of the antidumping duty order on freshwater crawfish tail meat from the PRC, which has a September anniversary month.

As required by 19 CFR 351.214(b)(2)(i), (ii), and (iii)(A), each company identified above has certified that it did not export freshwater crawfish tail meat to the United States during the period of investigation (“POI”), and that it has never been affiliated with any exporter or producer which did export freshwater crawfish tail meat during the POI. Pursuant to 19 CFR 341.214(b)(2)(iii)(B), the company has further certified that its export activities are not controlled by the central government of the PRC. Further, pursuant to the Department's regulations at 19 CFR 351.214(b)(2)(iv), each company submitted documentation establishing the date on which it first shipped the subject merchandise to the United States, the date of entry of that first shipment, the volume of that shipment and subsequent shipments, and the date of the first sale to an unaffiliated customer in the United States. For Siyang and Qingdao JYX, both of which exported the subject merchandise but did not produce it, complete certifications, as required by section 351.214(b)(2)(ii), were also submitted by Anhui (the producer of crawfish tail meat exported by Siyang) and by Hefei Zhongbao (the producer of crawfish tail meat exported by Qingdao JYX).

In accordance with section 751(a)(2)(B) of the Act and 19 CFR 351.214(b) of the Department's regulations, we find that the requesters (Hubei Houhu, Zhoushan Huading, Siyang and its producer Anhui, and Qingdao JYX and its producer Hefei) submitted all of the information required by the statute and the Department's regulations.

Initiation of Review

In accordance with section 751(a)(2)(B)(ii)(I) of the Act and 19 CFR 351.214(d)(1), we are initiating new shipper reviews of the antidumping duty order on freshwater crawfish tail meat from the PRC. We intend to issue the preliminary results of these reviews no later than 180 days after the date on which the review is initiated.

Antidumping Duty New Shipper Review Proceedings | Period to be reviewed
Hubei Qianjiang Houhu Frozen and Processing Factory; Qingdao Jin Yong Xiang Aquatic Foods Co., Ltd./Hefei Zhongbao Aquatic Foods Co., Ltd. Siyang Foreign Trading Corporation/Anhui Golden Bird Agricultural Products Development Co., Ltd. Zhoushan Huading Seafood Co., Ltd | 09/01/01-08/31/02

We will instruct the Customs Service to allow, at the option of the importer, the posting, until the completion of the review, of a bond or security in lieu of a cash deposit for each entry of the subject merchandise from the above-listed companies. Zhoushan Huading and Hubei Houhu each have certified that they both produce and export the subject merchandise, the sales of which were the basis of these new shipper review requests. Therefore, we will apply the bonding option under 19 CFR 251.107(b)(1)(i) only to subject merchandise for which each is both the producer and exporter. Qingdao JYX has identified Hefei Zhongbao Aquatic Co., Ltd. as the producer of the subject merchandise for the sales under review. in addition, Siyang has identified Anhui Golden Bird Agricultural Products Development Co., Ltd. (Anhui) as the producer of the subject merchandise for the sales under review. We will apply the bonding option under 19 CFR 351.107(b)(1)(i) only to entries of subject merchandise from these two exporters for which the respective producers under review are the suppliers.

Interested parties that need access to proprietary information in this new shipper review should submit applications for disclosure under administrative protective orders in accordance with 19 CFR 351.305 and 351.306.

This initiation and notice are in accordance with section 751(a)(2)(B) of the Act (19 U.S.C. 1675(a)(2)(B)) and 19 CFR 351.214(d).

Dated: November 1, 2002.
Joseph A. Spetrini,
Deputy Assistant Secertary for Import Administration, Group III.

[FR Doc. 02-28343 Filed 11-6-02; 8:45 am]

BILLING CODE 3516-DS-P